DEPARTMENT OF HOUSING AND URBAN DEVELOPMENT

[Docket No. FR-4665-N-06]

Manufactured Housing Construction and Safety Standards: Notice Appointing the Nonvoting Member and DFO for the Manufactured Housing Consensus Committee

AGENCY: Office of the Assistant Secretary for Housing—Federal Housing Commissioner, HUD.

ACTION: Notice appointing nonvoting member and DFO of Manufactured Housing Consensus Committee.

SUMMARY: Section 604(a)(3) of the National Manufactured Housing Construction and Safety Standards Act of 1974 provides that the Secretary appoint a Consensus Committee for manufactured housing consisting of 21 voting members and one nonvoting member. The voting members have been previously announced. William W. Matchneer III, Administrator of the Department's Manufactured Housing Program is appointed as the nonvoting member and Designated Federal Officer (DFO) of the Manufactured Housing Consensus Committee.

FOR FURTHER INFORMATION CONTACT: William W. Matchneer III, Administrator, Manufactured Housing Program, Office of Consumer and Regulatory Affairs, Department of Housing and Urban Development, 451 7th Street, SW., Washington, DC 20410, telephone (202) 708-6409 (this is not a toll-free number). Hearing- or speech-impaired individuals may access this number via TTY by calling the toll-free Federal Information Relay Service at (800) 877-8339.

SUPPLEMENTARY INFORMATION: Pursuant to the National Manufactured Housing Construction and Safety Standards Act of 1974 (42 U.S.C. 5401 et seq.) (“the Act”), the Department initiated a program that, in part, provides for establishment of standards by which all manufactured homes are constructed. The Act provides that these construction and safety standards preempt all standards of a State or political subdivision applicable to the same aspect of performance of a manufactured home that are not identical to the Federal Manufactured Home Construction and Safety Standards.

The Manufactured Housing Improvement Act of 2000 (title VI, Pub. L. 106-569, 114 Stat. 2944, approved December 27, 2000) (the 2000 Act) amended the Act in several areas. The 2000 Act specifically provides for the establishment of a Consensus Committee for manufactured housing. The Consensus Committee is charged with providing recommendations to the Secretary to adopt, revise, and interpret manufactured housing construction and safety standards and procedural and enforcement regulations. Twenty-one individuals have been selected by the Secretary to serve as voting members on the committee and those persons have been previously announced in the Federal Register.

Additionally, in accordance with GSA regulations at 41 CFR 102-3.120, the agency must designate a DFO for the Consensus Committee. William W. Matchneer III is appointed as the nonvoting member representing the Secretary and the DFO of the Manufactured Housing Consensus Committee.

Dated: November 5, 2002.
John C. Weicher,
Assistant Secretary for Housing—Federal Housing Commissioner.

[FR Doc. 02-29397 Filed 11-19-02; 8:45 am]

BILLING CODE 4210-27-P